DEPARTMENT OF COMMERCE

International Trade Administration

[A-580-810]

Welded ASTM A-312 Stainless Steel Pipe From the Republic of Korea: Final Results of Antidumping Duty Administrative Review; 2013-2014

AGENCY: Enforcement and Compliance, International Trade Administration, U.S. Department of Commerce.

SUMMARY: For the final results of the administrative review of the antidumping duty (AD) order on Welded ASTM A-312 Stainless Steel Pipe from the Republic of Korea (Korea), we find that SeAH Steel Corporation (SeAH) and LS Metal Co., Ltd. (LS Metal) made sales of subject merchandise at less than normal value. The period of review is December 1, 2013, through November 30, 2014.

DATES: Effective July 18, 2016.

FOR FURTHER INFORMATION CONTACT: Lingjun Wang, AD/CVD Operations, Office VII, Enforcement and Compliance, International Trade Administration, U.S. Department of Commerce, 14th Street and Constitution Avenue NW., Washington, DC 20230; telephone: (202) 482-2316.

SUPPLEMENTARY INFORMATION:

Background

On January 7, 2016, the Department of Commerce (Department) published in the Federal Register the preliminary results.¹ For a history of events that have occurred since the Preliminary Results, see the Issues and Decision Memorandum.² The Issues and Decision Memorandum is a public document and is on file electronically via Enforcement and Compliance's Antidumping and Countervailing Duty Centralized Electronic Service System (ACCESS). ACCESS is available to registered users at http://access.trade.gov, and is available to all parties in the Central Records Unit, Room B8024 of the main Department of Commerce building. In addition, a complete version of the Issues and Decision Memorandum can be accessed directly on the Internet at http://trade.gov/login.aspx. The signed Issues and Decision Memorandum and the electronic versions of the Issues and Decision Memorandum are identical in content.

¹ See Welded ASTM A-312 Stainless Steel Pipe from the Republic of Korea: Preliminary Results of Antidumping Duty Administrative Review; 2013-2014, 81 FR 742 (January 7, 2016) (Preliminary Results).

² See “Issues and Decision Memorandum for the Final Results of Antidumping Duty Administrative Review: Welded ASTM A-312 Stainless Steel Pipe from the Republic of Korea; 2013-2014” (Issues and Decision Memorandum), dated concurrently with and hereby adopted by this notice.

We tolled the deadline for issuing final results by four business days to May 13, 2016,³ to which we extended to July 11, 2016. The revised deadline for the final results of this review is now July 11, 2016.⁴

³ As explained in the memorandum from the Acting Assistant Secretary for Enforcement & Compliance, the Department has exercised its discretion to toll all administrative deadlines due to the recent closure of the Federal Government. See Memorandum to the Record from Ron Lorentzen, Acting A/S for Enforcement & Compliance, regarding “Tolling of Administrative Deadlines as a Result of the Government Closure During Snowstorm Jonas,” dated January 27, 2016. All deadlines in this segment of the proceeding have been extended by four business days.

⁴ See the Department's April 27, 2016 and July 1, 2016 memorandums.

Scope of the Order

The merchandise subject to the antidumping duty order is welded austenitic stainless steel pipe that meets the standards and specifications set forth by the American Society for Testing and Materials (ASTM) for the welded form of chromium-nickel pipe designated ASTM A-312. The merchandise covered by the scope of the orders also includes austenitic welded stainless steel pipes made according to the standards of other nations which are comparable to ASTM A-312.

Imports of welded ASTM A-312 stainless steel pipe are currently classifiable under the following Harmonized Tariff Schedule of the United States (HTSUS) subheadings: 7306.40.5005, 7306.40.5015, 7306.40.5040, 7306.40.5062, 7306.40.5064, and 7306.40.5085. Although these subheadings include both pipes and tubes, the scope of the antidumping duty order is limited to welded austenitic stainless steel pipes. The HTSUS subheadings are provided for convenience and customs purposes. However, the written description of the scope of the orders is dispositive.⁵

⁵ See Issues and Decision Memorandum for a full description of the scope of order.

Analysis of Comments Received

All issues raised in the case and rebuttal briefs are addressed in the Issues and Decision Memorandum. A list of issues raised and to which we responded in the Issues and Decision Memorandum is attached to this notice as an Appendix.

Changes Since the Preliminary Results

Based on a review of the record and comments received from interested parties regarding our Preliminary Results, we have made a change to SeAH's margin calculation.⁶

⁶ See Issues and Decision Memorandum at Comment 3, and “Calculation for the Final Results of SeAH Steel Corporation in the Antidumping Duty Administrative Review of Welded ASTM A-312 Stainless Steel Pipe from the Republic of Korea” (Final Calculation Memorandum).

Final Results of Review

As a result of our review, we determine the following weighted-average dumping margins exist for the period December 1, 2013, through November 30, 2014.

Producer or exporter | Weighted- average dumping margin
SeAH Steel Corporation | 2.58
LS Metal Co., Ltd | 31.70

Disclosure

We intend to disclose the calculation performed in connection with these final results within five days of the publication date of this notice pursuant to 19 CFR 351.224(b).

Assessment Rates

Pursuant to section 751(a)(2)(C) of the Act and 19 CFR 351.212(b)(1), the Department determined, and U.S. Customs and Border Protection (CBP) shall assess, antidumping duties on all appropriate entries of subject merchandise, in accordance with the final results of this review. The Department intends to issue assessment instructions to CBP 15 days after the date of publication of the final results of review. We will instruct CBP to liquidate entries of merchandise produced and/or exported by the aforementioned companies. The Department will calculate importer-specific assessment rates for SeAH. Where the respondent reported the entered value for its sales, the Department calculates importer-specific ad valorem assessment rates based on the ratio of the total amount of dumping calculated for the examined sales to the total entered value of those same sales.⁷ However, where the respondent did not report the entered value for its sales, the Department calculates importer-specific per-unit duty assessment rates. We will instruct CBP to apply an ad valorem assessment rate as indicated above to all entries of subject merchandise during the POR which were produced and/or exported by LS Metal and the all other companies.

⁷ See 19 CFR 351.212(b).

Cash Deposit Requirements

The following deposit requirements will be effective for all shipments of Welded ASTM A-312 Stainless Steel Pipe from Korea entered, or withdrawn from warehouse, for consumption on or after the date of publication of the final results of this administrative review, as provided for by section 751(a)(2)(C) of the Act: (1) The cash deposit rate for the company under review will be equal to the weighted-average dumping margin established in the final results of this review (except, if the rate is de minimis, i.e., less than 0.5 percent, then the cash deposit rate will be zero); (2) for previously reviewed or investigated companies not listed above, the cash deposit rate will continue to be the company-specific rate published in the completed segment for the most recent period; (3) if the exporter is not a firm covered in this review, a prior review, or the less-than-fair-value investigation (LTFV), but the manufacturer is, the cash deposit rate will be the rate established in the completed segment for the most recent period for the manufacturer of the merchandise; and (4) if neither the exporter nor the manufacturer is a firm covered in this or any other completed segment of this proceeding, then the cash deposit rate will continue to be 7.00 pecent, the “all others” rate made effective by the LTFV investigation.⁸ These deposit requirements, when imposed, shall remain in effect until further notice.

⁸ See Notice of Amended Final Determination and Antidumping Duty Order: Certain Welded Stainless Steel Pipe From the Republic of Korea, 60 FR 10064 (February 23, 1995).

Notification to Importers

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of doubled antidumping duties.

Notifications to Interested Parties

This notice also serves as a reminder to parties subject to administrative protective order (APO) of their responsibility concerning the destruction of proprietary information disclosed under APO in accordance with 19 CFR 351.305(a)(3). Timely written notification of the return or destruction of APO materials or conversion to judicial protective order is hereby requested. Failure to comply with the regulations and terms of an APO is a sanctionable violation.

The Department is issuing and publishing these final results of administrative review in accordance with sections 751(a)(1) and 777(i)(1) of the Act and 19 CFR 351.221(b)(5).

Dated: July 11, 2016.
Ronald K. Lorentzen,
Acting Assistant Secretary for Enforcement and Compliance.

Appendix

Summary

Background

Scope of the Order

Affiliation Based on Close Supplier Relationship

Use of Adverse Facts Available

Changes Since the Preliminary Results

Discussion of the Issues

1. Alignment of Product Characteristics—End Finish to Those From Recent Investigations

2. Applicability of Cost of Production Methodology From Line Pipe ⁹

⁹ See Welded Line Pipe from the Republic of Korea: Final Determination of Sales at Less Than Fair Value, 80 FR 61366 (October 13, 2015) (Line Pipe) and accompanying Issues and Decision Memorandum (IDM) at Comment 5.

3. Applicability U.S. Indirect Selling Expenses Methodology From Line Pipe ¹⁰

¹⁰ Id. at Comment 20.

4. Differential Pricing Analysis Is Not Consistent With the Requirements of the Statute or With Basic Principles of Statistical Analysis

[FR Doc. 2016-16945 Filed 7-15-16; 8:45 am]

BILLING CODE 3510-DS-P